NUCLEAR REGULATORY COMMISSION

10 CFR Part 72

[NRC-2023-0220]

RIN 3150-AL05

List of Approved Spent Fuel Storage Casks: FuelSolutions™ Spent Fuel Management System, Certificate of Compliance No. 1026, Renewal of Initial Certificate and Amendment Nos. 1 Through 4

AGENCY: Nuclear Regulatory Commission.

ACTION: Direct final rule; confirmation of effective date.

SUMMARY: The U.S. Nuclear Regulatory Commission (NRC) is confirming the effective date of July 3, 2024, for the direct final rule that was published in the Federal Register on April 19, 2024. This direct final rule amended the Westinghouse Electric Company LLC FuelSolutions™ Spent Fuel Management System listing within the “List of approved spent fuel storage casks” to renew the initial certificate and Amendment Nos. 1 through 4 to Certificate of Compliance No. 1026.

DATES: Effective date: The effective date of July 3, 2024, for the direct final rule published April 19, 2024 (89 FR 28572), is confirmed.

ADDRESSES: Please refer to Docket ID NRC-2023-0220 when contacting the NRC about the availability of information for this action. You may obtain publicly available information related to this action by any of the following methods:

• Federal Rulemaking Website: Go to https://www.regulations.gov and search for Docket ID NRC-2023-0220. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The proposed certificates of compliance, the proposed changes to the technical specifications, and the preliminary safety evaluation reports are available in ADAMS under Accession No. ML22354A263. The final certificates of compliance, the final changes to the technical specifications, and the final safety evaluation reports are available in ADAMS under Accession No. ML24141A254.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: George Tartal, Office of Nuclear Material Safety and Safeguards, telephone: 301-415-0016, email: george.tartal@nrc.gov and Yen-Ju Chen, Office of Nuclear Material Safety and Safeguards, telephone: 301-415-1018, email: yen-ju.chen@nrc.gov. Both are staff of the U.S. Nuclear Regulatory Commission, Washington, DC 20555-0001.

SUPPLEMENTARY INFORMATION: On April 19, 2024 (89 FR 28572), the NRC published a direct final rule amending its regulations in part 72 of title 10 of the Code of Federal Regulations to renew the initial certificate and Amendment Nos. 1 through 4 to Certificate of Compliance No. 1026 for 40 years and revise the certificate of compliance's conditions and technical specifications to address aging management activities related to the structures, systems, and components important to safety of the dry storage system to ensure that these will maintain their intended functions during the period of extended storage operations.

In the direct final rule, the NRC stated that if no significant adverse comments were received, the direct final rule would become effective on July 3, 2024. The NRC did not receive any comments on the direct final rule. Therefore, this direct final rule will become effective as scheduled.

Dated: May 28, 2024.
For the Nuclear Regulatory Commission.
Cindy Bladey,
Chief, Regulatory Analysis and Rulemaking Support Branch, Division of Rulemaking, Environmental, and Financial Support Office of Nuclear Material Safety and Safeguards.

[FR Doc. 2024-12063 Filed 5-31-24; 8:45 am]

BILLING CODE 7590-01-P